DEPARTMENT OF LABOR

Employment and Training Administration

[TA-W-41,933]

Agere Systems, Inc. Formerly DBA Cirent Semiconductor, a Subsidiary of Lucent Technologies, Orlando, Florida; Notice of Termination of Investigation

Pursuant to Section 221 of the Trade Act of 1974, an investigation was initiated on August 5, 2002 in response to a worker petition, which was filed by the International Brotherhood of Electrical Workers Union, Local 2000 on behalf of workers at Agere Systems, Inc., formerly doing business as Cirent Semiconductor, a subsidiary of Lucent Technologies, Orlando, Florida.

The petition review showed that it was a photocopy of the February 15, 2002, petition that resulted in a negative determination for workers of Agere Systems, Inc. on March 11, 2002 (TA-W-40,234). No new information was presented which would result in a reversal of the Department's previous determination. Consequently, further investigation in this case would serve no purpose; and the investigation has been terminated.

Signed in Washington, DC this 11th day of September, 2002.
Linda G. Poole,
Certifying Officer, Division of Trade Adjustment Assistance.

[FR Doc. 02-24510 Filed 9-26-02; 8:45 am]

BILLING CODE 4510-30-P